COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) to the Procurement List that will be furnished by nonprofit agencies employing persons who are blind or have other severe disabilities and deletes product(s) and service(s) from the Procurement List previously furnished by such agencies.

DATES: Date added to and deleted from the Procurement List: April 27, 2025.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Additions

On February 21, 2025 the Committee for Purchase From People Who Are Blind or Severely Disabled (operating as the U.S. AbilityOne Commission) published an initial notice of proposed additions to the Procurement List. (90 FR 10074). This final notice is published pursuant to 41 U.S.C. 8503(a)(2) and 41 CFR 51-2.3. The Committee has determined that the product listed below are suitable for procurement by the Federal Government and has added this product to the Procurement List. In accordance with 41 CFR 51-5.2, the Committee has authorized the qualified nonprofit agencies described with the product as the authorized source of supply. Additionally, in accordance with 41 CFR 51-2.4, the Committee considered relevant information from the contracting activity that this product requirement is not applicable to other Federal entities and has granted the activity's requested preference for purchase or distribution. This product is not available through the Commission's Commercial Distribution Program, and other Federal entities wishing to purchase this product must contact contracting activity directly for information on purchase availability.

After consideration of the material presented to it concerning capability of qualified nonprofit agencies to provide the products and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

8445-01-720-5640—Cravat, Women's, Space Force, Service Dress, Dark Navy

Authorized Source of Supply: Northeastern Association of the Blind at Albany, Inc., Albany, NY

Contracting Activity: DEFENSE LOGISTICS AGENCY, DLA TROOP SUPPORT

Distribution: C-List

Deletions

On February 7, 2025 (90 FR 9136) and 2/21/2025 (90 FR 10074), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8415-01-490-4368—Drawers, Chemical Protection Drawers, CPU, Army/Navy, Long, Black, 26

8415-01-490-4371—Drawers, Chemical Protection Drawers, CPU, Army/Navy, Long, Black, 28

8415-01-490-4372—Drawers, Chemical Protection Drawers, CPU, Army/Navy, Long, Black, 30

8415-01-490-4374—Drawers, Chemical Protection Drawers, CPU, Army/Navy, Long, Black, 32

8415-01-490-4376—Drawers, Chemical Protection Drawers, CPU, Army/Navy, Long, Black, 34

8415-01-490-4378—Drawers, Chemical Protection Drawers, CPU, Army/Navy, Long, Black, 36

8415-01-490-4379—Drawers, Chemical Protection Drawers, CPU, Army/Navy, Long, Black, 38

8415-01-490-4380—Drawers, Chemical Protection Drawers, CPU, Army/Navy, Long, Black, 40

8415-01-490-4381—Drawers, Chemical Protection Drawers, CPU, Army/Navy, Long, Black, 42

8415-01-490-4382—Drawers, Chemical Protection Drawers, CPU, Army/Navy, Long, Black, 44

8415-01-490-4383—Drawers, Chemical Protection Drawers, CPU, Army/Navy, Long, Black, 46

8415-01-490-4384—Drawers, Chemical Protection Drawers, CPU, Army/Navy, Long, Black, 48

8415-01-497-7963—Shirt, Underwear, Chemical Protective Turtleneck Type 2, Army, Long Sleeved, Black, 32

8415-01-497-7966—Shirt, Underwear, Chemical Protective Turtleneck Type 2, Army, Long Sleeved, Black, 34

8415-01-497-7967—Shirt, Underwear, Chemical Protective Turtleneck Type 2, Army, Long Sleeved, Black, 36

8415-01-497-7969—Shirt, Underwear, Chemical Protective Turtleneck Type 2, Army, Long Sleeved, Black, 38

8415-01-497-7975—Shirt, Underwear, Chemical Protective Turtleneck Type 2, Army, Long Sleeved, Black, 40

8415-01-497-7976—Shirt, Underwear, Chemical Protective Turtleneck Type 2, Army, Long Sleeved, Black, 42

8415-01-497-7977—Shirt, Underwear, Chemical Protective Turtleneck Type 2, Army, Long Sleeved, Black, 44

8415-01-497-7978—Shirt, Underwear, Chemical Protective Turtleneck Type 2, Army, Long Sleeved, Black, 46

8415-01-497-7980—Shirt, Underwear, Chemical Protective Turtleneck Type 2, Army, Long Sleeved, Black, 48

8415-01-497-7982—Shirt, Underwear, Chemical Protective Turtleneck Type 2, Army, Long Sleeved, Black, 50

8415-01-497-7983—Shirt, Underwear, Chemical Protective Turtleneck Type 2, Army, Long Sleeved, Black, 52

8415-01-497-7984—Shirt, Underwear, Chemical Protective Turtleneck Type 2, Army, Long Sleeved, Black, 54

Authorized Source of Supply: Peckham Vocational Industries, Inc., Lansing, MI

Authorized Source of Supply: ReadyOne Industries, Inc., El Paso, TX

Contracting Activity: W6QK ACC-APG NATICK, NATICK, MA

Contracting Activity: DLA TROOP SUPPORT, PHILADELPHIA, PA

Service(s)

Service Type: ESD—Tier 1 Call Center Service

Mandatory for: Defense Logistics Agency, DLA Headquarters, Satellite Offices (NoVA & DC area), CONUS & OCONUS, Philadelphia, PA

Authorized Source of Supply: Peckham Vocational Industries, Inc., Lansing, MI

Contracting Activity: DEFENSE LOGISTICS AGENCY, DCSO PHILADELPHIA

One comment was received, objecting to the proposed deletion at this time, because the commenter said that the requirement might be procured again in the future. The commenter recommended that the Commission pause its deletion action for at least a year. However, the Commission's research indicates it is unlikely that the previous requirement will be procured by this customer in the foreseeable future. The Commission maintains that contact center and IT help desk support can be suitable for procurement from nonprofit agencies employing individuals who are blind or have significant disabilities. In this case, however, there is no longer a government requirement for contract support, thus there is no potential to create or sustain employment for contract employees with disabilities. Accordingly, this requirement is appropriate for deletion from the Procurement List.

Service Type: Sourcing, Cutting, Kitting and Fulfillment Service

Mandatory for: Federal Prison Industries, Washington, DC—Pre-Cut Kit, OTV, Flame Retardant

Authorized Source of Supply: Blind Industries & Services of Maryland, Baltimore, MD

Contracting Activity: FEDERAL PRISON SYSTEM/BUREAU OF PRISONS, CO BUSINESS OFFICE

Service Type: Grounds Maintenance

Mandatory for: Department of Veterans Affairs, VA Nebraska-Western Iowa Health Care System, Omaha Campus, Omaha, NE

Authorized Source of Supply: Goodwill Specialty Services, Inc., Omaha, NE

Contracting Activity: VETERANS AFFAIRS, DEPARTMENT OF, 438-SIOUX FALLS VA MED CTR (00438)

Service Type: Custodial service

Mandatory for: Bureau of Land Management, Cliffside Gas Field Facility, Amarillo, TX

Authorized Source of Supply: World Technical Services, Inc., San Antonio, TX

Contracting Activity: BUREAU OF LAND MANAGEMENT, NATIONAL OPERATIONS CENTER

Service Type: Administrative Support Service

Mandatory for: US Army, Fort Bragg, Fort Bragg, NC

Authorized Source of Supply: Employment Source, Inc., Fayetteville, NC

Contracting Activity: DEPT OF THE ARMY, W6QM MICC FDO FT LIBERTY

Michael R. Jurkowski,
Director, Business Operations.

[FR Doc. 2025-05358 Filed 3-27-25; 8:45 am]

BILLING CODE 6353-01-P